ENVIRONMENTAL PROTECTION AGENCY

[FRL-7451-2]

EPA Science Advisory Board; Notification of Public Advisory Committee Meetings; Science and Technology Review Panel—Notification of Meeting Location

SUMMARY: This notice supplements the information published in the Federal Register (67 FR 79912) on December 31, 2002 by providing the location for the following meeting of a review panel of the U.S. EPA Science Advisory Board.

Meeting Date and Time: The Science and Technology Review Panel (STRP) of the U.S. Environmental Protection Agency's Science Advisory Board will conduct a public meeting on February 24-25, 2003. The meeting will begin on February 24, at 9:30 am and adjourn no later than 5:30 pm that day. On February 25, 2003, the meeting may begin as early as 8 am and adjourn no later than 5 pm.

Meeting Location: The meeting will take place at the Hotel Washington, 515 15th Street, NW., Washington, DC.

FOR FURTHER INFORMATION CONTACT: For further details concerning this review, including background information, availability of meeting materials, opportunity for public comment, and the charge to the STRP, please refer to the initial Federal Register notice (67 FR 79912), dated December 31, 2002. Information concerning related public teleconference meetings is also contained in that notice.

Dated: January 29, 2003.
Vanessa Vu,
Director, EPA Science Advisory Board Staff Office.

[FR Doc. 03-3419 Filed 2-10-03; 8:45 am]

BILLING CODE 6560-50-P